Title 3—

The President

Proclamation 10314 of November 24, 2021

Thanksgiving Day, 2021

By the President of the United States of America

A Proclamation

Thanksgiving provides us with a time to reflect on our many blessings—from God, this Nation, and each other. We are grateful for these blessings, even—and especially—during times of challenge.

That is why George Washington declared a day of Thanksgiving for his troops as they marched into that dark winter at Valley Forge. It is why in the midst of the Civil War—in proclaiming the Thanksgiving holiday we now celebrate today—Abraham Lincoln urged us to remember our “fruitful fields and healthful skies.” Just as 400 years ago when the Pilgrims were able to celebrate a successful first harvest thanks to the generosity and support of the Wampanoag, today we too express our gratitude for those who have helped us get through this difficult past year.

We are grateful for the farm workers and frontline workers, many of whom are immigrants, who make sure our food is harvested and shipped, keep our grocery stores stocked, and keep our cities and towns clean and safe.

We are grateful for the educators who are welcoming children back into their classrooms, helping them make up for lost learning and lost time, both academically and socially.

We are grateful for the parents who have carried their families through this challenging time, helping their children navigate this difficult chapter in our Nation's history.

We are grateful for the health care professionals working to vaccinate our Nation, the nurses who comfort and help people, and the doctors who provide care and compassion.

We are grateful for the researchers and scientists who have developed safe and effective vaccines and treatments, allowing us to safely enjoy a Thanksgiving this year with more family around the table.

As always, we are grateful for our troops serving far from home, keeping us safe and defending our values.

For the First Lady and me, Thanksgiving has always been a cherished time to enjoy annual traditions that have evolved into sacred rituals with our children and grandchildren: throwing the football, preparing family recipes, lighting candles, and setting the table. For many Americans, this Thanksgiving will be the first time gathering with loved ones in person since the start of the pandemic—a time of full tables and full hearts.

As we celebrate, we will also be thinking of the many families feeling the pain of an empty chair at the Thanksgiving table. You are not alone, and our Nation stands with you.

NOW, THEREFORE, I, JOSEPH R. BIDEN JR., President of the United States of America, by virtue of the authority vested in me by the Constitution and the laws of the United States, do hereby proclaim Thursday, November 25, 2021, as a National Day of Thanksgiving. I encourage the people of the United States of America to join together and give thanks for the friends, neighbors, family members, and strangers who have supported each other over the past year in a reflection of goodwill and unity.

IN WITNESS WHEREOF, I have hereunto set my hand this twenty-fourth day of November, in the year of our Lord two thousand twenty-one, and of the Independence of the United States of America the two hundred and forty-sixth.

[FR Doc. 2021-26219

Filed 11-30-21; 8:45 am]

Billing code 3395-F2-P